DEPARTMENT OF AGRICULTURE

Rural Utilities Service

Georgia Transmission Corporation; Notice of Finding of No Significant Impact

AGENCY: Rural Utilities Service, USDA.

ACTION: Notice of finding of no significant impact.

SUMMARY: Notice is hereby given that the Rural Utilities Service (RUS) has made a finding of no significant impact (FONSI) with respect to a request from Georgia Transmission Corporation for assistance from the RUS to finance the construction of a 230 kV transmission line and a 230/25 kV substation in Hall County, Georgia.

FOR FURTHER INFORMATION CONTACT: Bob Quigel, Environmental Protection Specialist, Engineering and Environmental Staff, RUS, Stop 1571, 1400 Independence Avenue, SW., Washington, DC 20250-1571, telephone (202) 720-0468, fax (202) 720-0820, e-mail at bquigel@rus.usda.gov.

SUPPLEMENTARY INFORMATION: No comments were received by RUS via e-mail or telephone during the 30-day comment period, which closed on November 23, 2001. However, mail service to the U.S. Department of Agriculture has been disrupted during the comment period due to screening of mail for potential anthrax contamination. Any person that sent written comments on the environmental assessment through the U.S. Postal Service to RUS during the comment period should contact RUS at the telephone number listed above within 5 working days of this notice to ensure their comments are considered prior to project construction. Should RUS conclude that any written comments that may have been submitted during the official comment period warrant further review and would cause reconsideration of RUS’ decision, the public would be so notified. Otherwise, this FONSI notice will serve as the final public notice of this project.

The transmission line will tap off of the existing 230 kV Gainesville #2—Winder transmission line at a point approximately ½ mile southeast of the junction of Lee Land Road and Webb Girth Road. The transmission line will traverse approximately 8.25 miles in a southwesterly direction paralleling Georgia Power Company's 500 kV Norcross-Oconee transmission line to the proposed 230/25 kV Spout Spring Substation which is to be located approximately 2000 feet east of the intersection of Williams Road and Spout Springs Road. The transmission line and substation would require virtually no clearing or major earth movement activities. The transmission line support structures will be between 60 and 80 feet tall. The substation will require 2.25 acres.

Copies of the FONSI are available for review at, or can be obtained from, RUS at the address provided herein or from Ms. Wende Martin, Georgia Transmission Corporation, 2100 East Exchange Place, Tucker, Georgia 30085-2088, telephone (770) 270-7591. Ms. Martin's e-mail address is wende.martin@gatrans.com.

Dated: December 4, 2001.
Alfred Rodgers,
Acting Assistant Administrator, Electric Program, Rural Utilities Service.

[FR Doc. 01-30454 Filed 12-7-01; 8:45 am]

BILLING CODE 3410-15-P